DEPARTMENT OF THE TREASURY

Internal Revenue Service

Advisory Group to the Internal Revenue Service Tax Exempt and Government Entities Division (TE/GE); Meeting

AGENCY: Internal Revenue Service (IRS); Tax Exempt and Government Entities Division, Treasury.

ACTION: Notice.

SUMMARY: The Advisory Committee on Tax Exempt and Government Entities (ACT) will hold a public meeting on Wednesday, June 17, 2015.

FOR FURTHER INFORMATION CONTACT: Tanya Barbosa, TE/GE Communications and Liaison; 1111 Constitution Ave. NW.; SE:T:CL—NCA 534-18; Washington, DC 20224. Telephone: 202-317-8514 (not a toll-free number). Email address: tege.advisory@irs.gov.

SUPPLEMENTARY INFORMATION: By notice herein given, pursuant to section 10(a)(2) of the Federal Advisory Committee Act, 5 U.S.C. App. (1988), a public meeting of the ACT will be held on Wednesday, June 17, 2015, from 9:30 a.m. to 11:30 a.m., at the Internal Revenue Service; 1111 Constitution Ave. NW., Room 3313, Washington, DC. Issues to be discussed relate to Employee Plans, Exempt Organizations, and Government Entities. Reports from five ACT subgroups cover the following topics:

• Employee Plans: Analysis and Recommendations Regarding 403(b) Plans

• Exempt Organizations: The Redesigned Form 990—Recommendations for Improving its Effectiveness as a Reporting Tool and Source of Data for the Exempt Organization Community

• Federal, State and Local Governments: FSLG Education and Outreach—Review and Recommendations

• Indian Tribal Governments: Recommendations for Outreach and Training—A Revision to the Indian Tax Desk Guide

• Tax-Exempt Bonds: Doing More With Less—Balancing Resources and Needs

Last minute agenda changes may preclude advance notice. Due to limited seating and security requirements, attendees must call Brian Dowling to confirm their attendance. Mr. Dowling can be reached at (202) 317-8798, or email attendance request to tege.advisory@irs.gov. Attendees are encouraged to arrive at least 30 minutes before the meeting begins to allow sufficient time for security clearance. Photo identification must be presented. Please use the main entrance at 1111 Constitution Ave. NW. to enter the building. Should you wish the ACT to consider a written statement, please call (202) 317-8514, or write to: Internal Revenue Service; 1111 Constitution Ave. NW., SE:T:CL—NCA-534-18, Washington, DC 20224, or: tege.advisory@irs.gov.

Dated: May 21, 2015.
Tanya Barbosa,
Acting, Designated Federal Officer, Tax Exempt and Government Entities Division, Internal Revenue Service.

[FR Doc. 2015-12954 Filed 5-27-15; 8:45 am]

BILLING CODE 4830-01-P